DEPARTMENT OF DEFENSE

Department of the Army

Armed Forces Epidemiological Board; Meeting

AGENCY: Department of the Army, DoD.

ACTION: Notice of partially-closed meeting.

SUMMARY: In accordance with section 10(a)(2) of Public Law 92-463, The Federal Advisory Committee Act, announcement is made of the following meeting:

Name of Committee: Armed Forces Epidemiological Board (AFEB).

Dates: May 20, 2003 (Partially-closed meeting). May 21, 2003 (Open meeting).

Times: 7:30 a.m.-5:45 p.m. (May 20, 2003). 7:30 a.m.-5:15 p.m. (May 21, 2003).

Location: Armed Forces Medical Intelligence Center, Fort Detrick, MD (May 20, 2003, 8:20 a.m.-12 p.m.) and U.S. Army Medical Research Institute of Infectious Diseases, 1425 Porter Street, Fort Detrick, MD 21702-5011 (May 20, 2003, 12 p.m.-5:45 p.m. and May 21, 2003, see above).

Agenda: The purpose of the meeting is to address pending and new Board issues, provide briefings for Board members on topics related to ongoing and new Board issues, conduct subcommittee meetings, and conduct an executive working session.

For Further Information Contact: Colonel James R. Riddle, Executive Secretary, Armed Forces Epidemiological Board, Skyline Six, 5109 Leesburg Pike, Room 682, Falls Church, VA 22041-3258, (703) 681-8012/3.

Supplementary Information: In the interest of national security, and in accordance with Title 5, United States Code (U.S.C.) section 552b(c)(1), the morning session on 20 May 2003 will be closed to the public. The afternoon session on 20 May and the entire session on 21 May will be open to the public. Open sessions of the meeting will be limited by space accommodations. The meeting will be open to the public in accordance with Section 552b(c) of Title 5, U.S.C., specifically subparagraph (1) thereof and Title 5, U.S.C., appendix 1, subsection 10(d). Any interested person may attend, appear before or file statements with the committee at the time and in the manner permitted by the committee.

Luz D. Ortiz,
Army Federal Register Liaison Officer.

[FR Doc. 03-9468 Filed 4-16-03; 8:45 am]

BILLING CODE 3710-08-M